DEPARTMENT OF COMMERCE

International Trade Administration

[A-821-801]

Solid Urea from the Russian Federation: Final Results of Antidumping Duty Administrative Review

AGENCY: Import Administration, International Trade Administration, Department of Commerce.

SUMMARY: On April 15, 2010, the Department of Commerce (the Department) published the preliminary results of the administrative review of the antidumping duty order on solid urea from the Russian Federation. The solid urea subject to this review was produced and exported by MCC EuroChem (EuroChem). The period of review (POR) is July 1, 2008, through June 30, 2009.

Based on our analysis of comments received, we have made changes in the margin calculation for EuroChem. Therefore, the final results are different from the preliminary results. The final weighted-average dumping margin for EuroChem is listed below in the section entitled “Final Results of the Administrative Review.”

EFFECTIVE DATE: August 20, 2010.

FOR FURTHER INFORMATION CONTACT: Dustin Ross or Minoo Hatten, AD/CVD Operations, Office 5, Import Administration, International Trade Administration, U.S. Department of Commerce, 14th Street and Constitution Avenue, NW, Washington, DC 20230; telephone: (202) 482-0747 and (202) 482-1690, respectively.

SUPPLEMENTARY INFORMATION:

Background

On April 15, 2010, the Department published the Preliminary Results of the administrative review of the antidumping duty order on solid urea from the Russian Federation. See Solid Urea From the Russian Federation: Preliminary Results of Antidumping Duty Administrative Review, 75 FR 19610 (April 15, 2010) (Preliminary Results).

On June 30, 2010, we received case briefs from the petitioners¹ and from EuroChem. On July 12, 2010, we received rebuttal briefs from the petitioners and from EuroChem. On July 13, 2010, at the request of EuroChem, we held a public hearing.

¹ The Ad Hoc Committee of Domestic Nitrogen Producers and its individual urea-producing members, CF Industries, Inc., and PCS Nitrogen.

Scope of the Order

The merchandise subject to the antidumping duty order is solid urea, a high-nitrogen content fertilizer which is produced by reacting ammonia with carbon dioxide. The product is currently classified under the Harmonized Tariff Schedule of the United States (HTSUS) item number 3102.10.00.00. Previously such merchandise was classified under item number 480.3000 of the Tariff Schedules of the United States. Although the HTSUS subheading is provided for convenience and customs purposes, the written description of the merchandise is dispositive.

Verification

We conducted a sales verification of EuroChem's response concerning its constructed-export price sales on June 14, 2010, and June 15, 2010, at EuroChem Trading USA's facility in Florida. We did not make any changes to EuroChem's data as a result of the verification. The Department released its verification report to interested parties on June 22, 2010.

Analysis of Comments Received

All issues raised in the case and rebuttal briefs by parties to this administrative review are addressed in the “Issues and Decision Memorandum for the Antidumping Duty Administrative Review of Solid Urea from the Russian Federation for the Period of Review July 1, 2008, through June 30, 2009” (Issues and Decision Memorandum) from Edward C. Yang, Acting Deputy Assistant Secretary for Antidumping and Countervailing Duty Operations, to Ronald K. Lorentzen, Deputy Assistant Secretary for Import Administration, dated concurrently with this notice, which is hereby adopted by this notice. A list of the issues which the parties have raised and to which we have responded is attached to this notice as an appendix. Parties can find a complete discussion of all issues raised and corresponding recommendations in this public memorandum, which is on file in Import Administration's Central Records Unit, Room 1117 of the main Department building. In addition, a complete version of the Issues and Decision Memorandum is available on the Internet at http://ia.ita.doc.gov/frn/index.html. The paper copy and electronic version of the Issues and Decision Memorandum are identical in content.

Changes Since The Preliminary Results

Based on the analysis of comments received, we have revised the appropriate date of sale for U.S. transactions from the date of sale used in the Preliminary Results. Specifically, we adopted the date of contract as the appropriate date of sale, rather than the date of shipment. See the Issues and Decision Memorandum at Comment 3 for a complete discussion of this issue.

Final Results of the Administrative Review

We determine that the weighted-average margin on solid urea from the Russian Federation produced and exported by EuroChem for the period July 1, 2008, through June 30, 2009, is 21.79 percent.

Assessment Rates

The Department shall determine and U.S. Customs and Border Protection (CBP) shall assess antidumping duties on all appropriate entries in accordance with 19 CFR 351.212(b)(1). The Department intends to instruct CBP to assess all antidumping duties due for this review period on the single unliquidated entry. Please see the Issues and Decision Memorandum for further information.

The Department clarified its “automatic assessment” regulation on May 6, 2003. See Antidumping and Countervailing Duty Proceedings: Assessment of Antidumping Duties, 68 FR 23954 (May 6, 2003) (Assessment Policy Notice). This clarification will apply to entries of subject merchandise during the POR produced by EuroChem, which it did not know were destined for the United States. In such instances, we will instruct CBP to liquidate unreviewed entries at the all-others rate if there is no rate for the intermediary(ies) involved in the transaction. For a full discussion of this clarification, see Assessment Policy Notice.

The Department intends to issue assessment instructions directly to CBP 15 days after publication of these final results of review.

Cash-Deposit Requirements

The following cash-deposit requirements will be effective upon publication for all shipments of the subject merchandise entered, or withdrawn from warehouse, for consumption on or after the publication date of the final results of this review, as provided by section 751(a)(2)(C) of the Tariff Act of 1930, as amended (the Act): 1) the cash-deposit rate for EuroChem will be 21.79 percent; 2) for previously reviewed or investigated companies not listed above, the cash-deposit rate will continue to be the company-specific rate published for the most recent period; 3) if the exporter is not a firm covered in this review, a prior review, or the original less-than-fair-value (LTFV) investigation but the manufacturer is, the cash-deposit rate will be the rate established for the most recent period for the manufacturer of the merchandise; 4) the cash-deposit rate for all other manufacturers or exporters will continue to be 64.93 percent, the all-others rate established in the LTFV investigation. See Urea From the Union of Soviet Socialist Republics; Final Determination of Sales at Less Than Fair Value, 52 FR 19557 (May 26, 1987). Following the break-up of the Soviet Union, the antidumping duty order on solid urea from the Soviet Union was transferred to the individual members of the Commonwealth of Independent States. See Solid Urea From the Union of Soviet Socialist Republics; Transfer of the Antidumping Order on Solid Urea From the Union of Soviet Socialist Republics to the Commonwealth of Independent States and the Baltic States and Opportunity to Comment, 57 FR 28828 (June 29, 1992). The rate established in the LTFV investigation for the Soviet Union was applied to each new independent state, including the Russian Federation. These cash-deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Orders

This notice also serves as a reminder to parties subject to an administrative protective order (APO) of their responsibility concerning the disposition of proprietary information disclosed under APO as explained in the APO itself. See 19 CFR 351.305(a)(3). Timely written notification of the destruction of APO materials or conversion to judicial protective order is hereby requested. Failure to comply with the regulations and the terms of an APO is a sanctionable violation.

We are issuing and publishing this notice in accordance with sections 751(a)(1) and 777(i)(1) of the Act and 19 CFR 351.221(b)(5).

Dated: August 13, 2010.
Ronald K. Lorentzen,
Deputy Assistant Secretary for Import Administration.

Appendix

Comment 1: Presumption of Reimbursement

Comment 2: CEP Offset

Comment 3: Date of Sale

Comment 4: Zeroing

Comment 5: Assessment of Antidumping Duties

[FR Doc. 2010-20750 Filed 8-19-10; 8:45 am]

BILLING CODE 3510-DS-S